DEPARTMENT OF COMMERCE

National Oceanic and Atmospheric Administration

[RTID 0648-XA551]

New England Fishery Management Council; Public Meeting

AGENCY: National Marine Fisheries Service (NMFS), National Oceanic and Atmospheric Administration (NOAA), Commerce.

ACTION: Notice of public meeting.

SUMMARY: The New England Fishery Management Council (Council, NEFMC) will hold a special, one-day meeting to consider actions affecting New England fisheries in the exclusive economic zone (EEZ). Due to federal and state travel restrictions, public gathering limitations, and updated guidance from the Centers for Disease Control and Prevention related to COVID-19, this meeting will be conducted entirely by webinar.

DATES: The webinar meeting will be held on Tuesday, October 27, 2020, beginning at 12:30 p.m.

ADDRESSES: All meeting participants and interested parties can register to join the webinar at https://register.gotowebinar.com/register/8462938110464133132.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, October 27, 2020

After introductions and brief announcements, the Council will hear abbreviated reports on recent activities from its Chairman, the Greater Atlantic Regional Fisheries Office's Regional Administrator, and the Northeast Fisheries Science Center. Then, the Council will turn its attention to the two primary issues for this meeting: (1) 2021 Council Priorities; and (2) Executive Order 13921, Promoting American Seafood Competitiveness and Economic Growth, which was signed on May 7, 2020. The Council will discuss and finalize 2021 work priorities for all of its committees and various responsibilities. As part of and in addition to this discussion, the Council will develop a list of actions that respond directly to the requests outlined in Executive Order 13921. During appropriate opportunities and at the discretion of the Council Chairman, the public will be allowed to offer comments on these agenda items. The Council's “Guidelines for Providing Public Comments” can be found at https://s3.amazonaws.com/nefmc.org/GuidelinesPubComment_Updated_June2020_final.pdf.

Also, a guide for how to publicly comment through the webinar is available on the Council website at https://s3.amazonaws.com/nefmc.org/NEFMC-meeting-remote-participation_generic.pdf. Once the Council concludes its discussion on 2021 Council Priorities and the Executive Order, it will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: October 5, 2020.
Tracey L. Thompson,
Acting Deputy Director, Office of Sustainable Fisheries, National Marine Fisheries Service.

[FR Doc. 2020-22303 Filed 10-7-20; 8:45 am]

BILLING CODE 3510-22-P